SMALL BUSINESS ADMINISTRATION

Declaration of Disaster #3634; Commonwealth of Puerto Rico (Amendment #1)

In accordance with notices received from the Department of Homeland Security—Federal Emergency Management Agency—effective September 19 and 22, 2004, the above numbered declaration is hereby amended to establish the incident period for this disaster as beginning September 14, 2004 and continuing through September 19, 2004. The declaration is also amended to include the municipalities of Caguas and Vieques as disaster areas due to damages caused by Tropical Storm Jeanne. All other municipalities contiguous to the above named primary municipalities have previously been declared.

All other information remains the same, i.e., the deadline for filing applications for physical damage is November 22, 2004 and for economic injury the deadline is June 21, 2005.

(Catalog of Federal Domestic Assistance Program Nos. 59002 and 59008)

Dated: September 27, 2004.
Herbert L. Mitchell,
Associate Administrator for Disaster Assistance.

[FR Doc. 04-22289 Filed 10-4-04; 8:45 am]

BILLING CODE 8025-01-P